DEPARTMENT OF COMMERCE

National Oceanic and Atmospheric Administration

[Docket No. 010412090-1090-01; I.D. 022301C]

RIN 0648-ZB06

Financial Assistance for Cooperative Research Projects to Strengthen and Develop the Northeast U.S. Groundfish Fishing Industry

AGENCY: National Marine Fisheries Service (NMFS), Northeast Region (NER) Northeast Cooperative Research Programs Initiative (NECRPI), National Oceanic and Atmospheric Administration (NOAA), Commerce.

ACTION: Notice.

SUMMARY: This notice is to advise the public that the National Marine Fisheries Service (NMFS) Northeast Region (NER) is requesting proposals in support of cooperative research and management activities by encouraging the development of partnerships among the commercial fishing industry, scientists, fishery managers and the academic community. By this notice, NMFS describes the conditions under which applications will be accepted and selected for funding. The goals of such research are to improve data upon which fishery management decisions are based and to improve communication, collaboration, and mutual understanding among all concerned with the Northeast groundfish fishery.

DATES: Preliminary proposals (cooperative research concept papers) will be accepted between May 9, 2001 and 5 p.m. eastern Daylight time June 25, 2001.

Comments on those preliminary proposals that will be invited to submit full proposals will be made available by July 23, 2001. Full proposals must be postmarked no later than August 22, 2001. No facsimile applications will be accepted.

ADDRESSES: Send preliminary proposals to Northeast Regional Office, NMFS, Northeast Cooperative Research Programs Initiative (NECRPI) Attn: Nick Anderson, One Blackburn Drive, Gloucester, MA 01930-2298.

You can obtain application forms from www.rdc.noaa.gov/ÿ7Egrants/index.html and www.whitehouse.gov/omb/grants/ and Code of Federal Regulations (CFR) citations from www.access.gpo.gov/nara/cfr/ . Forms can also be obtained by contacting Nick Anderson or Earl Meredith at the previous address.

The 1998 updated Executive Summary of the NOAA Strategic Plan is available at: www.strategic.noaa.gov/ and the Magnuson-Stevens Act is available at: www.nmfs.gov/sfa/magact/.

FOR FURTHER INFORMATION CONTACT: Earl Meredith (978-281-9276) or Nick Anderson (978-281-9383); or FAX (978-281-9161); or E-mail earl.meredith@noaa.gov or nick.anderson@noaa.gov.

SUPPLEMENTARY INFORMATION:

I. Background

Congressional funding for the Cooperative Research Initiative was appropriated pursuant to Pub. L. 106-78 to provide emergency disaster assistance for the commercial fishery failure under section 308(b)(1) of the Interjurisdictional Fisheries Act of 1986 with respect to Northeast multispecies fisheries. Approximately $15 million is available to support cooperative research and management activities administered by the National Marine Fisheries Service and based on recommendations by the New England Fishery Management Council. These funds will be available beginning FY2001 until expended. Several cooperative research programs (industry-based surveys/study fleets, groundfish tagging studies, and bycatch/discard conservation engineering) as well as short-term research projects (1-2 years) are currently under development. In support of the short-term research projects, NMFS anticipates that between 5 and 10 projects, will be issued grants ranging in size from $10,000 to $500,000, through this request for proposals. There are no matching/cost sharing requirements. This solicitation is limited to applications for short-term cooperative research projects only (1-2 years) and not for long-term programs. Grants issued under the Cooperative Research Initiative will be included among the programs funded by NOAA under Catalog of Federal Domestic Assistance No. 11.472 (Unallied Science Program).

II. Program Priorities and Objectives

In order to encourage research ideas and to prevent the expenditure of effort that may not be successful, NMFS is requesting preliminary proposals to determine the appropriateness of the ideas according to the list of research priorities for further development in a full proposal.

Each tier below contains priorities that fall within the areas of resource dynamics, fisheries management, habitat and socio-economics. Tier I addresses the most pressing fisheries management information needs. Tier II and Tier III list other areas of investigation that are also valued highly. Habitat issues in particular have been identified as extremely important and are listed in all three tiers, either directly or indirectly. During the consideration of preliminary proposals a greater regard may be given to applications that are specific to higher priority levels, but, foremost, each application will be judged primarily on the strength of the idea presented and the means it will employ to address the research topic.

A. Tier I

Obtain better fine-scale information on resource status in inshore and offshore areas.

Provide enhanced port and sea sampling information using the fishing industry (including documenting the quantity and composition of discards).

Monitor and evaluate effectiveness of area closures as a management tool to protect and build stocks.

Evaluate discard, bycatch, and non-catch mortality rates; initiate special studies under experimental design protocols to calculate gear interaction or discard rates. Bycatch encompasses all species, including marine mammals such as the harbor porpoise.Develop methods of enhanced collection of biological data through fishery participants.

B. Tier II

Obtain life history and spawning information: identify time and areas of spawning and other life history information as determined from fishing activities and information collected from the fishing industry.

Obtain detailed information on “fishing power” (related to capacity and catchability issues).

Investigate the conditions and benthos (sea floor characteristics) that contribute to post-settlement groundfish survivability. Identify the major groundfish nursery areas and their characteristics.

Conduct fishing industry-supported, high-resolution sediment mapping in specific areas of the Gulf of Maine and/or Georges Bank. Identify biological communities associated with mapped areas and determine relationships among sediment types and these communities. Identify and compare or contrast impacts to a variety of habitat types (mud, sand, gravel, cobble, rock, boulder) associated with roller and rockhopper trawl gear of the various sizes used in New England fisheries.

Identify issues associated with the social and economic components of fishing households and communities, such as family dependence on fishing; community dependence on fishing; changes in dependence across time and space; fishing crew issues, such as working conditions, safety, and views of the future; and spatial considerations, such as where people fish and why. Elucidate fishing communities and social relations associated with the fishing way of life, paying particular attention to area and/or sector-based management and community impacts.

Determine methods to integrate fishermen’s knowledge into the management of fisheries. This includes articulating fishing business practices, examining the number of fisheries in which they participate, seasonality of participation, training needs or other business practices that impact efficiency.

Investigate possible fishery institutions of the future, with particular attention given to such issues as capacity management, fishing permit flexibility, alternative organizations for management and for ITQ design and implementation. This research should concentrate on issues and structures surrounding possible organizations oriented on ecosystem, co-management, cooperatives, communities or zones.

C. Tier III

Conduct research designed to improve our understanding of predatory/prey interactions and examine food habits through stomach content analysis, stable isotopes, otolith analysis or other reliable methods.

Evaluate the use of Marine Protected Areas.

Develop methods to collect and integrate ecosystem information into fisheries management decisions.

Examine and compare the critical life history processes of commercially important species in a variety of habitats (which have been identified through fine-scale mapping) in both heavily and lightly fished reference areas.

Develop and demonstrate the practical use of otter trawl, scallop dredge, and other fishing gear designs that have significantly less contact or impact on the sea bottom (benthos) than gear in current use by New England fishermen.

Identify areas in the Gulf of Maine and Georges Bank that have not been subject to fishing activity, focusing primarily on areas with high relief geologic structure or on areas in close proximity to wrecks or other areas that have been left undisturbed. Identify flora and fauna assemblages associated with these areas.

Conduct surveys that investigate the expenditure impacts of the fishing industry in New England, with a particular focus on locations of expenditures and localized input/output analysis.

Conduct studies that focus on management and enforcement, such as compliance, at-sea and at-shore enforcement, and improvements to the effectiveness of regulations.

Develop methods to collect and/or integrate ecosystems information into fisheries management decision making.

Primary consideration for funding will be given to preliminary proposals that address the topics listed below. The three programs, industry-based surveys (and related projects such as study fleets), groundfish tagging, and bycatch/discard/conservation engineering, have also been identified as priority research areas because of their relationship to immediate fisheries management needs, their high level of interest to New England fishermen and their collaborative research value. Scoping and planning related to the development of these program areas are currently underway. Applicants should be aware that these programs are not the subject of this solicitation, but are discussed because of their relationship to the funding priorities listed below. Decisions concerning the development of full projects, however, could be made with these programs in mind, although final selection of the projects will be funded based on the merits of the proposals.

III. Eligibility

Eligible applicants are institutions of higher education, other non-profits, commercial organizations, state, local or Indian tribal governments, and individuals. Employees of any Federal agency or of a Regional Fishery Management Council are not eligible to submit an application under this program. However, Council members who are not Federal employees can submit an application to the program.

NMFS supports cultural and gender diversity in our programs and encourages women and minority individuals and groups to submit applications. NMFS is strongly committed to broadening the participation of Minority Serving Institutions (MSIs), which include Historically Black Colleges and Universities, Hispanic Serving Institutions, and Tribal Colleges and Universities, in our programs. The DOC/NOAA/NMFS vision, mission, and goals are to increase the opportunities for MSIs to participate in and benefit from Federal financial assistance programs, to advance the development of human potential, and to strengthen the Nation’s capacity to provide high-quality education. Therefore, all applicants are encouraged to include meaningful participation of MSIs.

NMFS encourages applications from members of the fishing community and applications that involve fishing community cooperation and participation. Note that NMFS expects the primary operations center of anyone receiving a grant under the Cooperative Research Initiative to be in the New England region since the objective of the NECRPI program is to benefit and optimize cooperative research and management activities specifically for the Northeast multispecies fisheries.

IV. Preliminary Proposal Guidelines

A. Preliminary Proposal

A preliminary proposal is required and must be postmarked no later than June 25, 2001. A preliminary proposal is a brief document (no more than four pages) that explains clearly the general concept of the project; how it would be carried out; and, how it will improve the conservation or management of groundfish stocks in Northeast fisheries. Preliminary proposals should include the following information:

1. Project Summary and statement of research question

2. Importance of research to groundfish conservation and management

3. Study design and duration

4. Expected products

5. Estimated cost (non-binding)

6. Principal investigators and their contact information

7. Existing expertise, equipment, facilities, and infrastructure

B. Screening, Evaluation, and Selection Procedures of Preliminary Proposals

1. Initial Screening of Preliminary Proposals

Preliminary proposals will be screened to ensure that they are postmarked by June 25, 2001 and submitted by an eligible applicant, address one of the research priorities (see Section II of this document), and identify the principal investigator. If your application does not meet the above criteria, it will be returned without further consideration.

2. Evaluation of Preliminary Proposals

After the initial screening, each preliminary proposal will be evaluated by members of the New England Fishery Management Council’s Research Steering Committee (RSC), fishing industry representatives, scientists, and by other interested parties. These reviewers will be required to certify that they do not have a conflict of interest concerning the application(s) they are reviewing. Each preliminary proposal will receive a score from the reviewer up to a maximum of 100 points according to the following criteria (maximum points per category shown in parentheses): degree of fishing industry involvement in design and conduct of research (20 points), technical appropriateness(10 points), study design(10 points), degree that priority issues are addressed(10 points), innovation(20 points), and use of existing resources, i.e., scientific and technical expertise(10 points), facilities and equipment(10 points), and other infrastructure(10 points). Preliminary proposals will be ranked based on weighted scores. Based on the number of submissions, full research proposals will be requested from approximately the top 25 percent of evaluated submissions. NMFS will notify the applicants in writing of the review results and of the need to submit a full proposal by July 23, 2001.

Please note that preliminary proposals and full proposals are subject to public review. If an application contains information which the applicant does not want disclosed, the applicant should follow instructions below under Section V. A. 6: “Privileged Information—Limited Use.” This information may be eliminated from public review.

If possible, preliminary proposals and full proposals (if requested) shall identify potential conflicts with any fishery management or protected species regulation. Projects that are inconsistent with regulations will not proceed until they have received an exempted fishery permit. Participation in this program does not automatically guarantee an exempted fishery permit. NMFS may provide advice and assistance in completing the application for such a permit, if requested, but the primary responsibility for obtaining exemptions belongs to the potential grant recipient.

V. Full Proposal Guidelines

A full research proposal will be requested from applicants whose preliminary proposals successfully meet the criteria for further development and evaluation. The research proposal application must follow the instructions and format described below. The application must not be bound and must be printed on one side only. Submit one signed original and two signed copies of your proposal. Full proposals must be postmarked no later than August 22, 2001.

A. Full Proposal Format

1. Cover Sheet

Submit OMB Standard Form 424 “Application for Federal Assistance” (available at http://www.whitehouse.gov/omb/grants/sf424.pdf) as the cover sheet for each project.

2. Project Summary

Provide a summary for each project under a heading “Project Summary.” This section should itemize the specific priority(ies) to which the proposal responds (see Section III - A & B of this document).

3. Project Budget

Provide detailed cost estimates showing total project costs. Specify estimates of the direct costs in the categories listed on OMB Standard Form 424A (Budget Information - Nonconstruction Programs)—available at http://www.whitehouse.gov/omb/grants/sf424a.pdf). The NMFS will not consider fees or profits as allowable costs in your proposal. The total costs of a project consist of all allowable costs you incur, including the value of in-kind contributions, in accomplishing project objectives during the life of the project. A project begins on the effective date of an award agreement between you and an authorized representative of the U.S. Government and ends on the date specified in the award. Accordingly, you cannot be reimbursed for time that you spend or costs that you incur in developing a project or preparing the proposal or in discussing or negotiating with us prior to the award.

4. Narrative Project Description

Provide a no longer than 8-page narrative description of your project. The narrative should demonstrate your knowledge of the need for the project and show how your proposal builds on any past or current work in the subject area or in a related field. Do not assume that the evaluation panel will know the relative merits of the project you describe. Describe your project as follows:

a. Project goals and objectives. Identify the specific priority(ies) listed under the heading Project Summary. Identify the problem/opportunity you intend to address and describe its significance to the fishing community. State what the project is expected to accomplish. If applying to continue a project previously funded, describe in detail progress to date and explain the need for additional funding.

b. Project impacts. Describe the anticipated impacts of the project on the fishing community in terms of reduced bycatch, increased product yield, or of any other measurable benefits. Describe how you will make the results of the project available for publication. Specify the research priority that your project will address from those listed in this notice.

c. Evaluation of project. Specify the criteria and procedures that will be used to evaluate the relative success or failure of a project in achieving its objectives.

d. Need for government financial assistance. Explain why government financial assistance is needed for the proposed work. List all other sources of funding you have or are seeking for the project.

e. Federal, state, and local government activities and permits. List any existing Federal, state, or local government programs or activities that this project would affect, including activities requiring certification under state Coastal Zone Management Plans, section 404 or section 10 permits issued by the Corps of Engineers, experimental fishing or other permits under FMPs, environmental impact statements to meet the requirements of the National Environmental Policy Act, or scientific permits under ESA and/or the Marine Mammal Protection Act. Describe the relationship between the project and these FMPs or activities and list names and addresses of persons providing this information. If your project is selected for funding, you are responsible for complying with all applicable laws.

f. Project statement of work. The statement of work is an action plan of activities you will conduct during the period of the project. Prepare a detailed narrative, fully describing the work that will be performed to achieve the project goals and objectives. The narrative should respond to the following questions:

(1) What is the project design? What specific work, activities, procedures, statistical design, or analytical methods will be undertaken?

(2) Who will be responsible for carrying out the various activities? (Highlight work that will be subcontracted and provisions for competitive subcontracting.)

(3) What are the major products and how will project results be disseminated? Describe products of the project, such as a manual, video, technique, or piece of equipment. Indicate how project results will be disseminated to potential users.

(4) What are the project milestones? List milestones, describing the specific activities and associated time lines to conduct the scope of work. Describe the time lines in monthly increments (e.g., month 1, month 2), rather than by specific dates. Identify the individual(s) responsible for the various specific activities. This information is critical in the reviewing process of your proposal, so you are encouraged to provide sufficient detail.

g. Participation by persons or groups other than the applicant. Describe whether government and non-government entities, particularly members of fishing communities, will participate in the project and how they will participate. The degree of participation by members of the fishing community will be considered in determining which proposals to fund.

h. Project management. Describe how the project will be organized and managed. Identify the principal participants in the project. If you do not identify the principal investigator, your proposal will be returned without further consideration. Include copies of any agreements between you and the participants describing the specific tasks to be performed. Provide a separate statement (e.g., resume or curriculum vitae) not to exceed two pages, stating the qualifications and experience of the principal investigator(s) and of any consultants and/or subcontractors and indicating their level of involvement in the project. If any portion of the project will be conducted through consultants and/or subcontracts, you must follow procurement guidance in 15 CFR part 24, “Grants and Cooperative Agreements to State and Local Governments” and in 15 CFR part 14, A Uniform Administrative Requirements for Grants and Agreements with Institutions of Higher Education, Hospitals, Other Non-Profit, and Commercial Organizations. The text of CFR citations can be reviewed at: http://www.access.gpo.gov/nara/cfr/cfr-table-search.html. If you select a consultant and/or a subcontractor prior to submitting a proposal, indicate the process that you used for selection.

5. Supporting Documentation

You should include any relevant documents and additional information (e.g. maps, background documents) that will help us to understand the project and the problem/opportunity you seek to address.

6. Privileged Information-Limited Use

In the event that a proposal contains information or data which the applicant does not want disclosed prior to award for purposes other than the evaluation of the proposal, the applicant should mark the cover page of the proposal with the following notice:

Notice

The information contained in pages [insert page numbers here] of this proposal has been submitted in confidence and contains trade secrets and/or privileged or confidential commercial, financial or other information, and such information shall be used or disclosed only for evaluation purposes, provided that, if this applicant receives an award as a result of or in connection with the submission of this proposal, NMFS shall have the right to use or disclose all the information in this proposal to the extent provided in the award.

The proposal must include or be accompanied by an explanation of why the applicant considers or believes the information to be privileged or confidential, whether such information is customarily treated as confidential by other similar organizations and entities, and what harm would result to the applicant if the information were disclosed.

If NMFS determines that such information is exempt from mandatory public disclosure, NMFS shall ensure that each copy of the proposal carries the “Notice” and that information in the proposal is not disclosed to any member of the public except as required for the purpose of scientific, technical, or business evaluation. NMFS is not authorized to withhold information requested by the Congress, by any committee of Congress, or by the General Accounting Office.

NMFS shall not limit the disclosure of any data or commercial or financial information contained in a proposal if such information is already generally available to the public, is already the property of the Government, or is or becomes available to NMFS from any source, including the applicant, without limitation.

B. Duration and Terms of Funding

If your proposal is selected for funding, NMFS incurs no obligation to provide any additional future funding in connection with that award. Renewal of an award to increase funding or extend the period of performance is totally at the agency’s discretion. The period of funding is generally considered to be for a duration of one year but may be adjusted for variations in schedules, seasonal considerations, or elsewhere. There are no matching or cost-sharing requirements placed upon the grant recipient.

The publishing of this announcement does not require the award of any specific grant or cooperative agreement, nor require the obligation of any part or the entire amount of funds available.

C. Full Research Proposal Screening, Evaluation, and Selection

1. Screening and Evaluation of Research Proposals

Prior to proposal evaluation, NMFS will conduct an initial screening to determine that proposals are postmarked by August 22, 2001, include Office of Management and Budget (OMB) Standard Form 424 (available at http://www.whitehouse.gov/omb/grants/sf424.pdf ), and are signed and dated by an authorized representative of the organization. Following the initial screening, NMFS will convene a panel to determine the technical merit of each proposal. The panel will be composed of fishing industry representatives, scientists, and others. The panel members will be required to certify that they do not have a conflict of interest concerning the proposal(s) they are reviewing. For proposals that continue a previously funded project, information on progress of the funded work must also be provided for evaluation. These proposals will be considered along with the new unfunded proposals. Proposals will be assigned scores based on the following criteria, with weights shown in parentheses:

a. Soundness of project design/conceptual approach. Proposals will be evaluated on the conceptual approach; the likelihood of gaining project results in the time frame specified in the proposal; whether there is sufficient information to evaluate the project technically; and, if so, the strengths and/or weaknesses of the technical design relative to securing productive results. (50 percent)

b. Project management and experience and qualifications of personnel. The organization and management of the project will be evaluated. The project's principal investigator and other personnel, including consultants and subcontractors participating in the project, will be evaluated in terms of related experience and qualifications. Proposals that include consultants and subcontractors will also be reviewed to preclude excess overhead and to ensure that the primary applicant is necessary to the conduct of the project and to the accomplishment of its objectives. (25 percent)

c. Project evaluation. The effectiveness of proposed methods to monitor and evaluate the success or failure of the project in terms of meeting its original objectives will be examined. (10 percent)

d. Project costs. The justification and allocation of the budget in terms of the work to be performed will be evaluated. Unreasonably high or low project costs will be taken into account. (15 percent)

The total dollar amount of the indirect costs proposed in an application under this program must not exceed the indirect cost rate negotiated and approved by a cognizant Federal agency prior to the proposed effective date of the award or 100 percent of the total proposed direct cost dollar amount in the application, whichever is less.

Proposals will be ranked in descending order by their final technical scores.

2. Selection Procedures and Project Funding

Panel recommendations will be sent to the Northeast Regional Administrator (RA) of NMFS for review. Panel members will provide individual evaluations on each proposal they evaluate; thus there will be no consensus advice. In making the final grant award selection, the RA may consider fishing community involvement, geographical distribution, costs, and duplication with other federally funded projects. Thus, awards may not necessarily be made to the highest ranked proposals.

You will be notified in writing whether your proposal is selected. Successful proposals will be incorporated into the award document. The exact amount of funds, the scope of work, and terms and conditions of a successful award will be determined in pre-award negotiations between you and NOAA/NMFS representatives. You should not initiate your project in expectation of Federal funding until you receive a grant award document signed by an authorized NOAA official.

VI. Administrative Requirements

A. Your Obligations as an Applicant

You must:

1. Meet all application requirements and provide all information necessary for the evaluation of the proposal, including one signed original and two signed copies of the application.

2. Be available to respond to questions during the review and evaluation of the proposal(s).

3. Primary applicant certification. Applicants whose proposals are recommended for funding will be required to submit a completed Form CD-511, “Certification Regarding Debarment, Suspension and Other Responsibility Matters; Drug-Free Workplace Requirements and Lobbying.” (Available at http://www.rdc.noaa.gov/ÿ7Egrants/pdf/cd511.pdf). The following explanations are provided:

a. Non-procurement debarment and suspension. Prospective participants (as defined at 15 CFR 26.105) are subject to 15 CFR part 26, “Non-procurement Debarment and Suspension” and to the related section of the certification form prescribed here;

b. Drug-free workplace. Grantees (as defined at 15 CFR 26.605) are subject to 15 CFR part 26, subpart F, “Government-wide Requirements for Drug-Free Workplace (Grants)” and to the related section of the certification form prescribed here;

c. Anti-lobbying. Persons (as defined at 15 CFR 28.105) are subject to the lobbying provisions of 31 U.S.C. 1352, “Limitation on Use of Appropriated Funds to Influence Certain Federal Contracting and Financial Transactions” and to the lobbying section of the certification form applies to applications/bids for grants, cooperative agreements, and contracts for more than $100,000, and loans and loan guarantees for more than $150,000; and

d. Anti-lobbying disclosures. Any applicant who has paid or will pay for lobbying using any funds must submit an SF-LLL, “Disclosure of Lobbying Activities,” as required under 15 CFR part 28, appendix B.

4. If applicable, require applicants/bidders for sub-grants, contracts, subcontracts, or other lower tier covered transactions at any tier under the award to submit a completed Form CD-512, “Certifications Regarding Debarment, Suspension, Ineligibility and Voluntary Exclusion-Lower Tier Covered Transactions and Lobbying” (available at Office of Management and Budget http://www.rdc.noaa.gov/ÿ7Egrants/pdf/cd512.pdf) and disclosure form SF-LLL, “Disclosure of Lobbying Activities.” Form CD-512 is intended for your use and should not be sent to the Department of Commerce (Commerce). You should send an SF-LLL submitted by any tier recipient or sub-recipient to Commerce only if your proposal is recommended for funding.

5. Complete Standard Form 424B (4-92), Assurances, Non-construction Programs.

B. Your Obligations as a Successful Applicant (Recipient)

If you are selected to receive a grant award for a project, you must:

1. Manage the day-to-day operations of the project, be responsible for the performance of all activities for which funds are granted, and be responsible for the satisfaction of all administrative and managerial conditions imposed by the award.

2. Keep records sufficient to document any costs incurred under the award, and allow access to these records for audit and examination by the Secretary of Commerce, the Comptroller General of the United States, or their authorized representatives; and, submit financial status reports (SF 269) to GMD in accordance with the award conditions.

3. Submit semiannual project status reports on the use of funds and progress of the project to us within 30 days after the end of each 6-month period. You will submit these reports to the individual identified as the NMFS Program Officer in the funding agreement.

4. Submit a final report within 90 days after completion of each project to the NMFS Program Officer. The final report must describe the project and include an evaluation of the work you performed and the results and benefits in sufficient detail to enable us to assess the success of the completed project. NMFS is committed to using available technology to achieve the timely and wide distribution of final reports to those who would benefit from this information. Therefore, you are required to submit final reports in electronic format, in accordance with the award terms and conditions, for possible publication by NMFS. You may charge the costs associated with preparing and transmitting your final reports in electronic format to the grant award. Requests for exemption from the electronic submission requirement will be considered on a case-by-case basis.

5. In addition to the final report in section VI.B.4. of this document, you are requested to submit any publications printed with grant funds (such as manuals, surveys, etc.) to the NMFS Program Officer for dissemination to the public. Submit either three hard copies or an electronic version of any such publications.

C. Other Requirements of Recipients

1. Federal Policies and Procedures

If you receive Federal funding, you are subject to all Federal laws and Federal and Department of Commerce policies, regulations, and procedures applicable to financial assistance awards. You must comply with general provisions that apply to all recipients under Department of Commerce grant and cooperative agreement programs.

2. Name Check Review

You may be subject to a name check review process. Name checks are used to determine whether any of the key individuals named in the application has been convicted of, or are presently facing, criminal charges, such as fraud, theft, perjury, or other matters, that significantly reflect on his or her management skills, honesty, or financial integrity.

3. Financial Management Certification/Preaward Accounting Survey

You may, at the discretion of the NOAA Grants Officer, be required to have your financial management systems certified by an independent public accountant as being in compliance with Federal standards specified in the applicable OMB Circulars prior to execution of the award. If you are a first-time applicant for Federal grant funds, you may be subject to a pre-award accounting survey by Commerce prior to execution of the award.

4. Past Performance

An applicant’s unsatisfactory performance under prior Federal awards may result in the applicant’s proposal not being considered for funding.

5. Delinquent Federal Debts

Federal funds will not be awarded to you or to any sub-recipients who have an outstanding delinquent Federal debt or fine until:

a. The delinquent account is paid in full,

b. A negotiated repayment schedule is established and at least one payment is received, or

c. Other arrangements satisfactory to Commerce are made.

6. Buy American

You are encouraged to the extent feasible to purchase American-made equipment and products with the funding provided under this program.

7. Pre-award Activities

If you incur any costs prior to receiving an award agreement signed by an authorized NOAA official, you do so solely at your own risk of not being reimbursed by the Government. Notwithstanding any verbal or written assurance that you may have received, the Department of Commerce has no obligation to cover pre-award costs.

8. False Statements

A false statement on the application is grounds for denial or termination of funds and grounds for possible punishment by a fine or imprisonment (18 U.S.C. 1001).

Classification

Pursuant to Section 553(a)(2) of the Administrative Procedure Act (APA), prior notice and an opportunity for public comments are not required by the APA or any other law for this notice concerning grants, benefits, and contracts. Therefore, a regulatory flexibility analysis is not required for purposes of the Regulatory Flexibility Act.

This action has been determined to be not significant for purposes of Executive Order 12866.

This notice contains collection-of-information requirements subject to the Paperwork Reduction Act. The use of Standard Forms 424, 424A, 424B, and SF-LLL has been approved by OMB under the respective control numbers 0348-0043, 0348-0044, 0348-0040, and 0348-0046. Notwithstanding any other provision of law, no person is required to respond to, nor shall any person be subject to a penalty for failure to comply with, a collection of information subject to the Paperwork Reduction Act, unless that collection displays a currently valid OMB control number.

VII. Catalog of Federal Domestic Assistance (CFDA)

This program falls under the CFDA number 11.472, Unallied Science projects.

A solicitation for proposals will also appear in the “Commerce Business Daily.”

Dated: May 3, 2001.
John Oliver,
Acting Deputy Assistant Administrator for Management and Administration, National Marine Fisheries Service.

[FR Doc. 01-11702 Filed 5-8-01; 8:45 am]

BILLING CODE 3510-22-S